DEPARTMENT OF HOMELAND SECURITY

Coast Guard

33 CFR Part 110

[Docket No. USCG-2015-0729]

Port of Miami Anchorage Area; Atlantic Ocean, Miami Beach, FL

AGENCY: Coast Guard, DHS.

ACTION: Notice of study; request for comments.

SUMMARY: U.S. Coast Guard Sector Miami received a study from the Florida Department of Environmental Protection, Southeast Florida Coral Reef Initiative (SEFCRI) concluding that the Miami Anchorage could be changed to reduce threats to protected coral and its habitat. The study indicated that the Miami Anchorage could be divided into two separate anchorage areas to reduce threats to protected coral while also facilitating the safe anchorage of shallow and deep draft vessels. The Coast Guard requests comments from interested persons regarding a possible modification of the Miami Anchorage based on the SEFCRI study.

DATES: All comments and related material must be received by the Coast Guard on or before February 1, 2016.

ADDRESSES: You may submit comments identified by docket number USCG-2015-0729 using the Federal eRulemaking Portal at http://www.regulations.gov. See the “Public Participation and Request for Comments” portion of the SUPPLEMENTARY INFORMATION section for further instructions on submitting comments.

FOR FURTHER INFORMATION CONTACT: If you have questions about this document, call or email LT Ruth Sadowitz, Sector Miami Waterways Division Chief at 305-535-4307 or email at ruth.a.sadowitz@uscg.mil.

I. Table of Abbreviations

CFR Code of Federal Regulations

DHS Department of Homeland Security

FR Federal Register

SEFCRI Florida Department of Environmental Protection, Southeast Florida Coral Reef Initiative

U.S.C. United States Code

II. Background and Purpose

South Florida is home to numerous threatened and endangered marine species, including hard and soft corals. These corals are routinely damaged by standard maritime activities such as anchoring. Damage to corals not only affects the survivability of individual corals but may have a cumulative impact on the marine ecosystem as a whole.

The Coast Guard establishes anchorage areas in order facilitate use of the navigable waterways by both recreational and commercial vessels. Anchorage areas ensure safe navigation, and protection of life and the environment. The Coast Guard previously established an anchorage area in the waters of the Atlantic Ocean, east of Miami Beach, Florida.

In 2008, the Florida Department of Environmental Protection, Southeast Florida Coral Reef Initiative (SECFRI) in coordination with the Anchorage Working Group (AWG) and the Coast Guard began working on methods to reduce damage to coral in the Miami Anchorage area. SECFRI completed a study indicating that it may be appropriate to change the Miami Anchorage area. The revision to the Miami Anchorage described below would break the anchorage into two authorized anchorage zones, a western anchorage and a larger eastern anchorage. We believe such a change would continue to ensure safe navigation in and around the Port of Miami while preserving imperiled species in the marine environment.

III. Public Participation and Request for Comments

We encourage you to submit comments on the change to the Miami Anchorage area described in the SECFRI study. SECFRI's study will be available on the docket and can be accessed on the Federal eRulemaking Portal at http://www.regulations.gov by searching for the following docket number: USCG-2015-0729. We will consider all submissions in helping us to determine whether we should initiate a rulemaking to amend our existing Miami Anchorage regulation. If you submit a comment, please include the docket number, indicate the specific aspect of the change described in SECFRI study to which each comment applies, and provide a reason for each suggestion or recommendation.

Please submit comments through the Federal eRulemaking Portal at http://www.regulations.gov. If your material cannot be submitted using http://www.regulations.gov, contact the person in the FOR FURTHER INFORMATION CONTACT section of this document for alternate instructions. Documents mentioned in this publication, and all public comments, will be in our online docket at http://www.regulations.gov and can be viewed by following that Web site's instructions. Additionally, if you go to the online docket and sign up for email alerts, you will be notified when comments are posted or other material is added to the docket, including all documents published by the Coast Guard related to this request for comments.

We accept anonymous comments. All comments received will be posted without change to http://www.regulations.gov and will include any personal information you have provided. For more about privacy and the docket, you may review a Privacy Act notice regarding the Federal Docket Management System in the March 24, 2005 issue of the Federal Register (70 FR 15086).

Please provide comments regarding the possible change listed below. In addition, please provide comments regarding potential impacts of this possible change and/or other concerns that you may have regarding the Miami Anchorage.

SECFRI's study concludes that the current Miami Anchorage established by coordinates in 33 CFR 110.188 (Atlantic Ocean off Miami and Miami Beach, FL) could be amended to mitigate threats to coral habitat and ensure that no vessels anchored in the area would damage protected coral bottom. The amended coordinates would establish two anchorages with a combined area of approximately 1.5 square miles and reduce the total anchorage area by approximately 3 square nautical miles. The amended anchorage areas would be established with the following coordinates:

Small Western Anchorage
[Approximate water depths: 45 ft]
NW Corner | 80° 5′37.225″ N | 25° 47′57.687″ W.
NE Corner | 80° 5′26.466″ N | 25° 47′57.341″ W.
SE Corner | 80° 5′27.069″ N | 25° 46′31.443″ W.
SW Corner | 80° 5′37.868″ N | 25° 46′31.557″ W.

Large Eastern Anchorage
[Approximate water depths: 120 ft]
NW Corner | 80° 4′59.155″ N | 25° 48′13.841″ W.
NE Corner | 80° 4′4.582″ N | 25° 48′4.617″ W.
SE Corner | 80° 4′28.387″ N | 25° 46′32.712″ W.
SW Corner | 80° 4′59.775″ N | 25° 46′32.767″ W

Authority: This notice is issued under authority of 5 U.S.C. 552(a).

Dated: November 24, 2015.
S.A. Buschman,
Rear Admiral, U.S. Coast Guard, Commander, Seventh Coast Guard District.

[FR Doc. 2015-30406 Filed 11-30-15; 8:45 am]

BILLING CODE 9110-04-P